DEPARTMENT OF THE TREASURY

Submission for OMB Review; Comment Request

August 14, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before September 18, 2006 to be assured of consideration.

Internal Revenue Service (IRS)

OMB Number: 1545-1556.

Type of Review: Extension.

Title: Source of Income From Sales of Inventory Partly From Sources Within a Possession of the United States; Also, Source of Income Derived From Certain Purchases From a Corporation Electing Section 936.

Description: The information requested in section 1.863-3(f)(6) is necessary for the Service to audit taxpayers' return to ensure taxpayers are properly determining the source of their income.

Respondents: Businesses or other for-profit institutions.

Estimated Total Burden Hours: 500 hours.

OMB Number: 1545-0976.

Type of Review: Extension.

Title: Estimated Tax on Unrelated Business Taxable Income for Tax-Exempt Organizations.

Form: 990-W.

Description: Form 990-W is used by tax-exempt trusts and tax-exempt corporations to figure estimated tax liability on unrelated business income and on investment income for private foundations and the amount of each installment payment. Form 990-W is a worksheet only. It is not required to be filed.

Respondents: Business and other for-profit institutions, and not-for-profit institutions.

Estimated Total Burden Hours: 387,392 hours.

OMB Number: 1545-0950.

Type of Review: Extension.

Title: Application for Enrollment To Practice Before the Internal Revenue Service.

Form: 23.

Description: Form 23 must be completed by those who desire to be enrolled to practice before the Internal Revenue Service. The information on the form will be used by the Director of Practice to determine the qualifications and eligibility of applicants for enrollment.

Respondents: Individuals or Households.

Estimated Total Burden Hours: 2,400 hours.

OMB Number: 1545-1444.

Type of Review: Revision.

Title: Empowerment Zone Employment Credit.

Form: 8844.

Description: Employers who hire employees who live and work in one of the 11 designated empowerment zones can receive a tax credit for the first $15,000 of wages paid to each employee. The credit is applicable from the date of designation through the year 2004.

Respondents: Individuals or Households.

Estimated Total Burden Hours: 365,904 hours.

OMB Number: 1545-1844.

Type of Review: Extension.

Title: Agreement To Mediate.

Form: 13369.

Description: Fast Track Mediation is a dispute resolution process designed to expedite case resolution. In order to avail themselves of this process, taxpayers and Compliance must complete the Agreement to Mediate once an examination or collection determination is made. Once signed by both parties, the Agreement to Mediate will be forwarded to Appeals to schedule a mediation session.

Respondents: Individuals or Households.

Estimated Total Burden Hours: 15 hours.

OMB Number: 1545-1690.

Type of Review: Extension.

Title: Notice 2000-28 Coal Exports.

Description: Notice 2000-28 provides guidance relating to the coal excise tax imposed by section 4121 of the Internal Revenue Code. The notice provides rules under the Code for making a nontaxable sale of coal for export or for obtaining a credit or refund when tax has been paid with respect to a nontaxable sale or coal for export.

Respondents: Business and other for-profit institutions.

Estimated Total Burden Hours: 400 hours.

OMB Number: 1545-0129.

Type of Review: Extension.

Title: U.S. Income Tax Return for Certain Political Organizations.

Form: 1120-POL.

Description: Certain political organizations file Form 1120-POL to report the tax imposed by section 527. The form is used to designate a principal business campaign committee that is subject to a lower rate of tax under section 527(h). IRS uses Form 1120-POL to determine if the proper tax was paid.

Respondents: Not-for-profit institutions.

Estimated Total Burden Hours: 239,150 hours.

OMB Number: 1545-0175.

Type of Review: Extension.

Title: Alternative Minimum Tax-Corporations.

Form: 4626.

Description: Form 4626 is used by corporations to calculate their alternative minimum tax.

Respondents: Businesses and other for-profit institutions.

Estimated Total Burden Hours: 2,596,800 hours.

Clearance Officer:

Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-13612 Filed 8-17-06; 8:45 am]

BILLING CODE 4830-01-P